DEPARTMENT OF AGRICULTURE

Food and Nutrition Service

Agency Information Collection Activities: Proposed Collection; Comment Request—Report of School Programs—FNS-10

AGENCY: Food and Nutrition Service (FNS), USDA.

ACTION: Notice.

SUMMARY: In accordance with the Paperwork Reduction Act of 1995, this notice invites the general public and other public agencies to comment on this existing information collection. This collection is a revision of a currently approved collection for reporting school programs data on a monthly basis for the National School Lunch Program, the School Breakfast Program, and the Special Milk Program.

DATES: Written comments must be received on or before June 26, 2012.

ADDRESSES: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to Jon Garcia, Acting Branch Chief, Program Analysis and Monitoring Branch, Food and Nutrition Service, U.S. Department of Agriculture, 3101 Park Center Drive, Room 640, Alexandria, VA 22302. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Room 640, Alexandria, Virginia 22302.

All responses to this notice will be summarized and included in the request for Office of Management and Budget approval. All comments will be a matter of public record.

FOR FURTHER INFORMATION CONTACT: Requests for additional information or copies of this information collection should be directed to Jon Garcia at (703) 305-2600.

SUPPLEMENTARY INFORMATION: Title: 7 CFR Part 210 National School Lunch Program, Part 220 School Breakfast Program, and Part 215 Special Milk Program.

Form Number: FNS-10.

OMB Number: 0584-0002.

Expiration Date: 08/31/2012.

Type of Request: Revision, of a currently approved collection.

Abstract: The Food and Nutrition Service administers the National School Lunch Program, the School Breakfast Program, and the Special Milk Program as mandated by the Richard B. Russell National School Lunch Act (NSLA), as amended (42 U.S.C. 1751, et seq.), and the Child Nutrition Act of 1966, as amended (42 U.S.C. 1771, et seq.). As provided in 7 CFR 210.5 (d)(1), 210.4(b)(1)(ii), 215.10(b), and 220.13 (b)(2), “Each State agency must submit a final report of School Program Operations (FNS-10) to FNS for each month.” FNS uses form FNS-10 to collect data on school program operations from State agencies on a monthly basis. The form is an intrinsic part of the accounting system currently being used by the subject programs to ensure proper reimbursement in a timely manner. The FNS-10 form is provided to States through a Web-based Federal reporting system, and 100 percent of the information is collected through electronic means. The burden hours have decreased from the previously approved burden (−2,448) due to a previous assessment of burden on the submission of optional reports (i.e., “90-Day” report revisions due to audits, investigations, or management evaluations and “60-Day” reports) of School Program Operations. For an example of the FNS-10 and its instructions, see Appendix A at the end of this notice.

Affected Public: State agencies.

Estimated Number of Respondents: 56 State agencies.

Estimated Number of Responses per Respondent: 24 (Each State agency will submit a 30-day report and a 90-day report for each month in the year.).

Estimated Total Annual Responses: 1,344.

Reporting Time per Response: 2.25 hours.

Estimated Annual Reporting Burden: 3,024 hours.

See the table below for estimated total annual burden for each type of respondent.

Affected public | Instrument | Estimated number of respondents | Responses per respondent | Total annual responses | Estimated average number of hours per response | Annual burden hours
State agency | FNS-10, Report of School Program Operations | 56 | 24 | 1,344 | 2.25 | 3,024
Total Reporting Burden |  | 56 |  | 1,344 |  | 3,024

Dated: April 19, 2012.
Audrey Rowe,
Administrator, Food and Nutrition Service.

Attachment: Appendix A: FNS-10 Report of School Program Operations

Appendix A—Sample Version of the Proposed FNS-10 and Instructions

BILLING CODE 3410-30-P

[FR Doc. 2012-10253 Filed 4-26-12; 8:45 am]

BILLING CODE 3410-30-C